DEPARTMENT OF COMMERCE

International Trade Administration

[C-475-830]

Final Affirmative Countervailing Duty Determination: Stainless Steel Bar From Italy

AGENCY: Import Administration, International Trade Administration, Department of Commerce.

ACTION: Notice of final affirmative determination in a countervailing duty investigation.

SUMMARY: The Department of Commerce has made a final determination that countervailable subsidies are being provided to certain producers and exporters of stainless steel bar from Italy. For information on the estimated countervailing duty rates, please see the “Suspension of Liquidation” section, below.

EFFECTIVE DATE: January 23, 2002.

FOR FURTHER INFORMATION CONTACT: Suresh Maniam or Jennifer Jones at (202) 482-0176 or (202) 482-4194, respectively; Import Administration, International Trade Administration, U.S. Department of Commerce, 14th Street and Constitution Avenue, NW., Washington, DC 20230.

SUPPLEMENTARY INFORMATION:

Applicable Statute and Regulations

Unless otherwise indicated, all citations to the statute are references to the provisions effective January 1, 1995, the effective date of the amendments made to the Tariff Act of 1930 (the “Act”) by the Uruguay Round Agreements Act. In addition, unless otherwise indicated, all citations to the Department of Commerce's (the “Department”) regulations are references to the provisions codified at 19 CFR part 351 (April 2000).

Petitioners

The petition in this investigation was filed by Carpenter Technology Corp., Crucible Specialty Metals, Electralloy Corp., Empire Specialty Steel Inc., Slater Steels Corp., and the United Steelworkers of America, AFL-CIO/CLC (collectively, “the petitioners”).

Case History

Since the publication of the preliminary determination in the Federal Register (see Preliminary Affirmative Countervailing Duty Determination and Alignment of Final Countervailing Duty Determination With Final Antidumping Duty Determination: Stainless Steel Bar From Italy, 66 FR 30414 (June 6, 2001) (“Preliminary Determination”)), the following events have occurred:

From June 25, 2001 to July 13, 2001, we conducted a verification of the questionnaire responses submitted by the Government of Italy (“GOI”), the Provincial Government of Bolzano, the Regional Government of Valle D'Aosta, Trafileria Bedini S.r.l. (“Bedini”), Acciaiera Foroni S.p.A. (“Foroni”), Italfond S.p.A., Rodacciai S.p.A., and Acciaierie Valbruna S.p.A. (“Valbruna”).

On August 2, 2001, we published a notice postponing the final antidumping determination until December 17, 2001. Notice of Preliminary Determination of Sales at Less Than Fair Value and Postponement of Final Determination: Stainless Steel Bar from Italy, 66 FR 40214 (August 2, 2001). Because of the alignment of this countervailing duty investigation with the antidumping duty investigation, the final determination in this countervailing duty investigation was also postponed until December 17, 2001.

On October 23 and 24, 2001, we informed all interested parties that, due to the events of September 11, 2001, we were tolling the final determination deadline until January 15, 2001. See Memorandum to File, “Tolling of Final Determination Deadline,” dated October 25, 2001.

On October 29, 2001, we received case briefs from the petitioners, Valbruna, Bedini, and Foroni. On November 5, 2001, we received rebuttal briefs from the petitioners, Valbruna, and Bedini. Foroni did not file a rebuttal brief. No hearing was held because no party requested a hearing.

Scope of Investigation

For purposes of this investigation, the term “stainless steel bar” includes articles of stainless steel in straight lengths that have been either hot-rolled, forged, turned, cold-drawn, cold-rolled or otherwise cold-finished, or ground, having a uniform solid cross section along their whole length in the shape of circles, segments of circles, ovals, rectangles (including squares), triangles, hexagons, octagons, or other convex polygons. Stainless steel bar includes cold-finished stainless steel bars that are turned or ground in straight lengths, whether produced from hot-rolled bar or from straightened and cut rod or wire, and reinforcing bars that have indentations, ribs, grooves, or other deformations produced during the rolling process.

Except as specified above, the term does not include stainless steel semi-finished products, cut length flat-rolled products (i.e., cut length rolled products which if less than 4.75 mm in thickness have a width measuring at least 10 times in thickness, or if 4.75 mm or more in thickness having a width which exceeds 150 mm and measures at least twice the thickness), products that have been cut from stainless steel sheet, strip or plate, wire (i.e., cold-formed products in coils, of any uniform solid cross section along their whole length, which do not conform to the definition of flat-rolled product), and angles, shapes and sections.

The stainless steel bar subject to this investigation is currently classifiable under subheadings 7222.11.00.05, 7222.11.00.50, 7222.19.00.05, 7222.19.00.50, 7222.20.00.05, 7222.20.00.45, 7222.20.00.75, and 7222.30.00.00 of the Harmonized Tariff Schedules of the United States (“HTSUS”).

Although the HTSUS subheadings are provided for convenience and customs purposes, the written description of the merchandise under investigation is dispositive.

Scope Changes: Certain requests regarding the scope of this investigation were addressed in the preliminary determinations of the concurrent antidumping duty investigations and after the preliminary determination in this countervailing duty case. (See, e.g., Notice of Preliminary Determination of Sales at Less Than Fair Value and Postponement of Final Determination: Stainless Steel Bar from Italy, 66 FR 40214, 40216 (August 2, 2001)). The respondents in the companion antidumping duty investigations filed comments seeking to exclude certain products from the scope of these investigations. Because these comments affect the scope of this investigation as well, we are addressing them now. The specific products identified in their exclusion requests are:

1. Stainless steel tool steel.

2. Welding wire.

3. Special-quality oil field equipment steel (“SQOFES”).

4. Special profile wire.

These requests are addressed in more detail in the Memorandum to the File, “Definition of Scope,” dated July 26, 2001 and its attachments, which has been placed on the record of this investigation. The conclusions in this memorandum are summarized below.

Regarding stainless steel tool steel, welding wire, and SQOFES, after considering the respondents' comments and the petitioners' objections to the exclusion requests, we determined that the scope is not overly broad. Therefore, stainless steel tool steel, welding wire, and SQOFES are within the scope of this investigation. In addition, we determined that SQOFES does not constitute a separate class or kind of merchandise from the subject merchandise.

Regarding special profile wire, we determined that this product does not fall within the scope as it is written because its cross section is in the shape of a concave polygon. Therefore, we have not included special profile wire in this investigation.

Injury Test

Because Italy is a “Subsidies Agreement Country” within the meaning of section 701(b) of the Act, the U.S. International Trade Commission (“ITC”) is required to determine whether imports of the subject merchandise from Italy materially injure, or threaten material injury to, a U.S. industry. On February 23, 2001, the ITC published its preliminary determination finding a reasonable indication of material injury or threat of material injury to an industry in the United States by reason of imports of stainless steel bar from Italy. See Stainless Steel Bar from France, Germany, Italy, Korea, Taiwan, and the United Kingdom, 66 FR 11314 (February 23, 2001).

Period of Investigation

The period of investigation for which we are measuring subsidies is the calendar year 2000.

Analysis of Comments Received

All issues raised in the case and rebuttal briefs by parties to this investigation are addressed in the “Issues and Decision Memorandum” from Richard W. Moreland, Deputy Assistant Secretary, Import Administration to Faryar Shirzad, Assistant Secretary, Import Administration, dated January 15, 2001 (“Decision Memorandum”), which is hereby adopted by this notice. Attached to this notice as Appendix I is a list of the issues which parties have raised and to which we have responded in the Decision Memorandum. Parties can find a complete discussion of all issues raised in this investigation and the corresponding recommendations in this public memorandum which is on file in the Central Records Unit, room B-099 of the main Department building. In addition, a complete version of the Decision Memorandum can be accessed directly on the Internet at http://ia.ita.doc.gov/frn/ under the heading “Italy.” The paper copy and electronic version of the Decision Memorandum are identical in content.

Suspension of Liquidation

In accordance with section 705(c)(1)(B)(i) of the Act, we have calculated an individual net subsidy rate for each manufacturer of the subject merchandise. Pursuant to section 705(c)(1)(B)(ii) of the Act, we are directing Customs to continue to suspend liquidation of all imports of the subject merchandise from Italy, except for subject merchandise produced and exported by Acciaierie Valbruna S.p.A., Acciaiera Foroni, S.p.A, Trafileria Bedini S.r.l., Italfond S.p.A., or Rodacciai S.p.A. (all of which have either a zero or de minimis weighted-average margin), that are entered, or withdrawn from warehouse, for consumption on or after June 6, 2001, the date of publication of the Preliminary Determination in the Federal Register. In accordance with sections 777A(e)(2)(B) and 705(c)(5)(A) of the Act, we have set the “all others” rate as CAS” rate, because the rates for all other investigated companies are either zero or de minimis. We note that although portions of CAS” rate were based on adverse facts available, we based the majority of our calculations on information provided by the GOI and EC in this investigation. We determine the total estimated net subsidy rate for each company to be:

Producer/exporter | Net subsidy rate (percent)
Cogne Acciai Speciali S.r.l | 13.17
Acciaierie Valbruna S.p.A | 0.42
Acciaiera Foroni S.p.A | 0.00
Trafileria Bedini S.r.l | 0.00
Italfond S.p.A | 0.18
Rodacciai S.p.A | 0.07
All Others | 13.17

In accordance with our Preliminary Determination, we instructed the Customs Service to suspend liquidation of all entries of stainless steel bar from Italy, which were entered or withdrawn from warehouse, for consumption on or after June 6, 2001, the date of the publication of our Preliminary Determination in the Federal Register. In accordance with section 703(d) of the Act, we instructed Customs to discontinue the suspension of liquidation for merchandise for countervailing duty purposes entered on or after October 4, 2001, but to continue the suspension of liquidation of entries made from June 6, 2001 through October 3, 2001.

We will issue a countervailing duty order and reinstate the suspension of liquidation under section 706(a) of the Act if the ITC issues a final affirmative injury determination and will require a cash deposit of estimated countervailing duties for such entries of merchandise in the amounts indicated above. If the ITC determines that material injury, or threat of material injury, does not exist, this proceeding will be terminated and all estimated duties deposited or securities posted as a result of the suspension of liquidation will be refunded or canceled.

ITC Notification

In accordance with section 705(d) of the Act, we will notify the ITC of our determination. In addition, we are making available to the ITC all non-privileged and non-proprietary information related to this investigation. We will allow the ITC access to all privileged and business proprietary information in our files, provided the ITC confirms that it will not disclose such information, either publicly or under an Administrative Protective Order (“APO”), without the written consent of the Assistant Secretary for Import Administration.

Return or Destruction of Proprietary Information

In the event that the ITC issues a final negative injury determination, this notice will serve as the only reminder to parties subject to an APO of their responsibility concerning the destruction of proprietary information disclosed under APO in accordance with 19 CFR 351.305(a)(3). Failure to comply is a violation of the APO.

This determination is published pursuant to sections 705(d) and 777(i) of the Act.

Dated: January 15, 2002.
Faryar Shirzad,
Assistant Secretary for Import Administration.

Appendix I

List of Comments and Issues in the Decision Memorandum

Comment 1: Facts Available Methodology for CAS.

Comment 2: Appropriate AUL for Valbruna.

Comment 3: Attribution of Subsidies Following Bolzano's Change in Ownership.

Comment 4: Interest Subsidy Received by Falck Under Article 3 of Law 193/84.

Comment 5: Law 193/84 Capacity Reduction Grants.

Comment 6: Repayment of Law 25/81 Benefits by Falck.

Comment 7: Bolzano Industrial Site Lease and Extraordinary Maintenance.

Comment 8: Bolzano Industrial Site Purchase.

Comment 9: Countervailability of Law 44/92.

Comment 10: Exclusion of Valbruna's Non-Italian Production from Sales Denominator.

Comment 11: Denominator Used in Calculating Valbruna's Subsidy Rate.

Comment 12: Appropriate Discount Rate for Valbruna.

Comment 13: Law 451/94 Early Retirement Program.

Comment 14: Attribution of 1983 and 1985 Law 25/81 Grants to Valbruna.

Comment 15: Law 25/81 Environmental Grants.

Comment 16: European Social Fund.

Comment 17: Law 549/95.

Comment 18: Appropriate AUL for Foroni.

[FR Doc. 02-1655 Filed 1-22-02; 8:45 am]

BILLING CODE 3510-DS-P